DEPARTMENT OF DEFENSE

Department of the Army; Corps of Engineers

North Atlantic Coast Comprehensive Study

AGENCY: Department of the Army, U.S. Army Corps of Engineers, DoD.

ACTION: Notice of Report Availability.

SUMMARY: The Congressional response to the devastation in the wake of Hurricane Sandy included a mandate to collaborate with federal, state, tribal and local government agencies to regionally address the vulnerability of coastal populations at risk within the boundaries of the U.S. Army Corps of Engineers (USACE) North Atlantic Division. The goals of the North Atlantic Coast Comprehensive Study (NACCS), authorized under the Disaster Relief Appropriations Act, Public Law 113-2, were to: (1) Provide a risk management framework, consistent with National Oceanic and Atmospheric Administration/USACE Infrastructure Systems Rebuilding Principles; and (2) support resilient coastal communities and robust, sustainable coastal landscape systems, considering future sea level and climate change scenarios, to manage risk to vulnerable populations, property, ecosystems, and infrastructure. In addition, the NACCS evaluated institutional and other barriers to providing comprehensive coastal storm risk management, along with other activities warranting additional analysis. NACCS draft analyses were made available to stakeholders for review and validation in March 2014. Throughout the study process several additional opportunities for stakeholder input were made available, including a webinar collaboration series, agency and public engagements, and a feedback link on the NACCS Web page. Full NEPA and other environmental compliance would be required as part of future detailed evaluations and/or feasibility studies before any actions could be implemented. The final report was submitted to Congress and all associated documents and tools are now accessible on the NACCS Web page at: https://www.nad.usace.army.mil/compstudy.

ADDRESSES: For media contacts please contact Mr. Justin Ward, U.S. Army Corps of Engineers, Public Affairs, 302 General Lee Avenue, Brooklyn, NY 11252, at justin.m.ward@usace.army.mil or at (347) 370-4550.

FOR FURTHER INFORMATION CONTACT: Mr. Justin Ward, U.S. Army Corps of Engineers, Public Affairs.

SUPPLEMENTARY INFORMATION: The NACCS recommends the use of a nine-step Coastal Storm Risk Management Framework, which is customizable for any coastal watershed and is informed by several planning tools and models that are included in the report, among other resources. To further manage coastal flood risk, the report also recommends better institutional alignment and financing, better use of pre-storm planning and post-storm monitoring tools, and better education on flood risk and the availability of flood risk management solutions. The report recognizes the long-term challenges facing the area, which makes it clear that integrated solutions that promote sustainable communities and ecosystems will be needed. The report also identifies nine high-risk areas that warrant additional analysis. They are: Rhode Island Coastline; Connecticut Coastline; New York-New Jersey Harbor and Tributaries; Nassau County Back Bays, NY; New Jersey Back Bays, NJ; Delaware Inland Bays and Delaware Bay Coast, DE; City of Baltimore, MD; Washington, DC; and City of Norfolk, VA. The NACCS report represents a start in the direction of the new paradigm that accounts for new and changing conditions—this will need the attention and commitment of public, private and commercial interests in order to succeed.

Dated: January 28, 2015.
Amy M. Guise,
Chief, Planning Division, Baltimore District, U.S. Army Corps of Engineers.

[FR Doc. 2015-01901 Filed 1-30-15; 8:45 am]

BILLING CODE 3720-58-P